DEPARTMENT OF ENERGY

Federal Energy Regulatory Commission

Combined Notice of Filings

Take notice that the Commission has received the following Natural Gas Pipeline Rate and Refund Report filings:

Filings Instituting Proceedings

Docket Numbers: RP17-407-003.

Applicants: National Fuel Gas Supply Corporation.

Description: Compliance filing Compliance Filing (GTC 41—NA15) to be effective 2/1/2018.

Filed Date: 12/21/17.

Accession Number: 20171221-5107.

Comments Due: 5 p.m. ET 1/2/18.

Docket Numbers: RP18-268-000.

Applicants: Sea Robin Pipeline Company, LLC.

Description: Compliance filing Annual Flowthrough Crediting Mechanism Filing on 12/21/17. to be effective N/A.

Filed Date: 12/21/17.

Accession Number: 20171221-5066.

Comments Due: 5 p.m. ET 1/2/18.

Docket Numbers: RP18-269-000.

Applicants: Empire Pipeline, Inc.

Description: § 4(d) Rate Filing: GT&C 30.6 Force Majeure + Minor Changes (Empire) to be effective 2/1/2018.

Filed Date: 12/21/17.

Accession Number: 20171221-5071.

Comments Due: 5 p.m. ET 1/2/18.

Docket Numbers: RP18-270-000.

Applicants: Trailblazer Pipeline Company LLC.

Description: § 4(d) Rate Filing: Neg Rate 2017-12-21 Morgan Stanley to be effective 1/1/2018.

Filed Date: 12/21/17.

Accession Number: 20171221-5108.

Comments Due: 5 p.m. ET 1/2/18.

Docket Numbers: RP18-75-002.

Applicants: Algonquin Gas Transmission Company.

Description: Request for Clarification, or in the Alternative, Rehearing of Algonquin Gas Transmission, LLC under RP18-75.

Filed Date: 12/21/17.

Accession Number: 20171221-5068.

Comments Due: 5 p.m. ET 1/2/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2017.
Nathaniel J. Davis Sr.,
Deputy Secretary.

[FR Doc. 2017-28320 Filed 1-2-18; 8:45 am]

BILLING CODE 6717-01-P